DEPARTMENT OF COMMERCE

National Institute of Standards and Technology

Prospective Grant of Exclusive Patent License

AGENCY: National Institute of Standards and Technology, Commerce.

ACTION: Notice of prospective grant of exclusive patent license.

SUMMARY: This is a notice in accordance with 35 U.S.C. 209(e) and 37 CFR 404.7(a)(1)(i) that the National Institute of Standards and Technology (“NIST”), U.S. Department of Commerce, is contemplating the grant of an exclusive license in the United States of America, its territories, possessions and commonwealths, to NIST's interest in the invention embodied in U.S. Patent No. 8,918,884, entitled “K-zero day safety,” (NIST Docket No. 12-017) to the George Mason Research Foundation, Inc. The grant of the license would be for all fields of use.

FOR FURTHER INFORMATION CONTACT: Honeyeh Zube, National Institute of Standards and Technology, Technology Partnerships Office, 100 Bureau Drive, Stop 2200, Gaithersburg, MD 20899, (301) 975-2209, honeyeh.zube@nist.gov.

SUPPLEMENTARY INFORMATION: The prospective exclusive license will be royalty bearing and will comply with the terms and conditions of 35 U.S.C. 209 and 37 CFR 404.7. The prospective exclusive license may be granted unless, within fifteen (15) days from the date of this published notice, NIST receives written evidence and argument which establish that the grant of the license would not be consistent with the requirements of 35 U.S.C. 209 and 37 CFR 404.7. U.S. Patent No. 8,918,884 is co-owned by George Mason University and the U.S. Government, as represented by the Secretary of the Department of Commerce. The patent, which issued on December 23, 2014, describes systems and methods for determining a safety level of a network vulnerable to attack.

Kevin A. Kimball,
Chief of Staff.

[FR Doc. 2015-10497 Filed 5-5-15; 8:45 am]

BILLING CODE 3510-13-P